AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections, as required by the Paperwork Reduction Act for 1995. Comments are requested concerning: (a) whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before March 8, 2010.

ADDRESSES: Send comments via e-mail at tHembry@usaid.gov mail comments to: Tracy Hembry, Small Disadvantage Business Specialist, United States Agency for International Development, Ronald Reagan Building, 1300 Pennsylvania Avenue, NW., Washington, DC 20523 (202-712-4983).

FOR FURTHER INFORMATION CONTACT: Beverly Johnson, Bureau for Management. Office of Administrative Services, Information and Records Division, U.S. Agency for International Development, Room 2.07-106, RRB, Washington, DC 20523, (202) 712-1365 or via e-mail bjohnson@usaid.gov.

SUPPLEMENTARY INFORMATION: OMB No.: OMB 0412-New.

Form No.: N/A.

Title: Mentor-Protégé Program Annual Report.

Type of Review: New.

Purpose: The mentors are required to report on the progress made under each of active Mentor-Protégé Agreement annually throughout the term of the agreement. Each report is due 30 days after the end of each twelve-month period commencing with the start of the agreement.

Annual Reporting Burden:

Respondents: 30.

Total Annual Responses: 30.

Total Annual Hours Requested: 360.

Dated: December 29, 2009.
Cynthia Staples,
Acting Chief, Information and Records Division, Office of Administrative Services, Bureau for Management.

[FR Doc. E9-31401 Filed 1-6-10; 8:45 am]

BILLING CODE 6116-01-M